ENVIRONMENTAL PROTECTION AGENCY

[EPA-HQ-OECA-2013-0333; FRL-9902-94-OEI]

Information Collection Request Submitted to OMB for Review and Approval; Comment Request; Air Emission Standards for Tanks, Surface Impoundment and Containers (Renewal)

AGENCY: Environmental Protection Agency (EPA).

ACTION: Notice.

SUMMARY: The Environmental Protection Agency has submitted an information collection request (ICR), “Air Emission Standards for Tanks, Surface Impoundment and Containers (40 CFR Part 264, Subpart CC, and 40 CFR Part 265, Subpart CC) (Renewal)” (EPA ICR No. 1593.09, OMB Control No. 2060-0318), to the Office of Management and Budget (OMB) for review and approval in accordance with the Paperwork Reduction Act (44 U.S.C. 3501 et seq). This is a proposed extension of the ICR, which is currently approved through December 31, 2013. Public comments were previously requested via the Federal Register (78 FR 33409) on June 4, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 18, 2013.

ADDRESSES: Submit your comments, referencing Docket ID Number EPA-HQ-OECA-2013-0333, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: This ICR renewal is being submitted for the Air Emission Standards for Tanks, Surface Impoundments and Containers (40 CFR Part 264, Subpart CC and 40 CFR Part 265, Subpart CC), which were promulgated on December 6, 1994. The requirements of this subpart apply to owners and operators of all facilities that treat, store, or dispose of hazardous wastes in tanks, surface impoundments and containers that are subject to subparts I, J or K of these parts, except for Sections 264.1 and 265.1 and those management units identified at Sections 264.1080(b) and 265.1080(b). Also, the requirements of this subpart apply to large quantity generators that manage hazardous wastes in either tanks, or containers (262.34(a)(1)(i and ii)). The affected entities are subject to the General Provisions of the NSPS at 40 CFR part 60, subpart A and any changes or additions to the Provisions specified at 40 CFR part 264, subpart CC and 40 CFR part 265, subpart CC.

Form Numbers: None.

Respondents/affected entities: Facilities that treat, store, or dispose of RCRA Subtitle C hazardous waste.

Respondent's obligation to respond: Mandatory (40 CFR part 264, subpart CC and 40 CFR part 265, subpart CC)

Estimated number of respondents: 6,209 (total).

Frequency of response: Occasionally, annually, and semiannually.

Total estimated burden: 712,293 hours (per year). Burden is defined at 5 CFR 1320.3(b).

Total estimated cost: $82,092,685 (per year), includes $12,418,000 for operation & maintenance costs annualized capital and no annualized capital/start-up costs.

Changes in the Estimates: There is an adjustment increase in the respondent burden hours and costs from the most recently approved ICR. The previous ICR used rounded numbers, while this ICR uses exact values in calculating burden hours. In addition, this ICR uses updated labor rates from the Bureau of Labor Statistics to calculate burden costs.

There is also an increase of one response in this ICR due to a correction. The previous ICR did not account for the annual project report for the Sisterville Plant when calculating the total number of responses.

John Moses,
Director, Collection Strategies Division.

[FR Doc. 2013-27436 Filed 11-15-13; 8:45 am]

BILLING CODE 6560-50-P